DEPARTMENT OF COMMERCE

National Oceanic and Atmospheric Administration

50 CFR Part 600

[I.D. 111501A]

Magnuson-Stevens Act Provisions; General Provisions for Domestic Fisheries; Application for Exempted Fishing Permits (EFPs)

AGENCY: National Marine Fisheries Service (NMFS), National Oceanic and Atmospheric Administration (NOAA), Commerce.

ACTION: Notification of a proposal for EFPs to conduct experimental fishing; request for comments.

SUMMARY: NMFS announces that the Administrator, Northeast Region, NMFS (Regional Administrator), has made a preliminary determination that an exempted fishing permit (EFP) application for mixed groundfish fisheries of the Northeast, submitted by the Manomet Center for Conservation Sciences (Manomet), contains all the required information as required by the regulations that govern exempted experimental fishing under the provisions of the Magnuson-Stevens Fishery Conservation and Management Act (Magnuson-Stevens Act) and warrants further consideration. The Regional Administrator has also made a preliminary determination that the activities authorized under the EFP would be consistent with the goals and objectives of the Northeast Multispecies Fishery Management Plan (FMP) and within the scope of earlier analyses of the impacts. However, further review and consultation may be necessary before a final determination is made to issue an EFP. Regulations under the Magnuson-Stevens Fishery Conservation and Management Act require publication of this notification to provide interested parties the opportunity to comment on applications for proposed EFPs.

DATES: Comments on this notice must be received at the appropriate address or fax number (see ADDRESSES) on or before December 14, 2001.

ADDRESSES: Written comments should be sent to Patricia A. Kurkul, Regional Administrator, NMFS, Northeast Regional Office, 1 Blackburn Drive, Gloucester, MA 01930. Mark the outside of the envelope “Comments on EFP Proposal.” Comments may also be sent via facisimile (fax) to (978) 281-9135. Comments will not be accepted if submitted via e-mail or the Internet.

FOR FURTHER INFORMATION CONTACT: Allison Ferreira, Fishery Management Specialist, 978-281-9103, Allison.Ferreira@noaa.gov.

SUPPLEMENTARY INFORMATION: NMFS announces that the Regional Administrator intends to issue an EFP that would allow one federally permitted Northeast multispecies vessel to test the effectiveness of a fish excluder device, referred to as “Ex-it,” at excluding undersized cod using a codend cover having mesh smaller than authorized under § 648.80(a)(2). This EFP may also allow access to the Conditional Gulf of Maine (GOM) Closure Area, specified at § 648.81 (o)(1)(ii), if it is deemed necessary.

An industry cooperative proposal was received from Manomet on October 19, 2001, for one EFP to test the effectiveness of a fish excluder device, “Ex-it,” at excluding undersized cod in the mixed groundfish fishery of the Northeast. The goal of the experiment is to develop a selective trawl gear that releases undersized cod, while retaining fish of marketable size.

The proposed study would test two versions of the “Ex-it” device. The device is inserted into the top panel of a codend within a trapezoidal steel frame, and consists of a net tube in the shape of an hourglass, and steel grids. The grid system is made of six smaller flexible grids that are joined together, with the distance between the grid bars spaced according to the species and size of fish intended to be excluded. One “Ex-it” device would have a grid bar interval of 60 mm, while the other would have a grid bar interval of 70 mm. In order to test the effectiveness of the two “Ex-it” devices at excluding undersized cod, a retaining bag having 3-inch (7.62-cm) mesh would be attached to the external side of the codend, in correspondence to the trapezoidal steel frame. This codend cover will enable virtually all catch escaping through the “Ex-it” device to be retained, thereby allowing for the comparison of fish excluded versus fish retained. This information can then be used to formulate species-specific selectivity curves for each device.

Fishing operations are expected to commence at the beginning of December 2001, and last approximately 6 days. A maximum of 30 tows would be completed, with an average of 5 tows per day. The study would be conducted in a portion of the Gulf of Maine/Georges Bank Regulated Mesh Area (GOM/GB RMA) and take place during daylight hours. The study is proposed to occur in the area bound by the following coordinates: The New Hampshire shoreline at 43° N lat. and east to 43° N lat./70° W long., then south to the 42° N lat. line, then west to the Cape Cod shoreline, excluding the year-round Western GOM closure area. This study area does not encompass any GOM seasonal closure areas during the month of December. However, depending on when the EFP is issued and December weather conditions, the participating vessel may need to complete the required tows in early January 2002, when the Massachusetts Bay-Stellwagen Bank Conditional Closure Area (Rolling Closure Area VI, § 648.81 (o)(1)(ii)) goes into effect. Thus, an exemption from this seasonal closure area may be required to complete the proposed study. If necessary, a separate EFP with an exemption from the rolling closure area may be issued.

The target species would consist of cod, yellowtail flounder, haddock, American plaice (dab), winter flounder (blackback), and grey sole (witch flounder). The main incidental species are expected to consist of skate, smooth dogfish, spiny dogfish, sculpins, sea raven and sea robin. Based on previous work in this area, a total catch amounting to 2,000 lb (907 kg) of cod, 500 lb (227 kg) of yellowtail flounder, 3,900 lb (1,769 kg) of haddock, 50 lb (23 kg) of American plaice, 20 lb (9 kg) of winter flounder, and 260 lb (118 kg) of grey sole is expected. The participating vessel would only be authorized to retain fish for commercial sale in the amounts allowed under its Federal fishery permits and days-at-sea allocations, and according to the applicable minimum fish size requirements. No undersized fish would be retained on board the vessel. The vessel would be required to operate under the multispecies days-at-sea regulations.

One EFP would be issued to a federally permitted Northeast multispecies vessel to exempt it from the gear restrictions and, if necessary, the Conditional GOM Closure Area of the FMP.

Regulations under the Magnuson-Stevens Act require publication of this notification to provide interested parties with the opportunity to comment on applications for proposed EFPs. Based on the outcome of this EFP, this action may lead to further rulemaking.

Authority: 16 U.S.C. 1801 et seq.

Dated: November 21, 2001.
Bruce C. Morehead,
Acting Director, Office of Sustainable Fisheries, National Marine Fisheries Service.

[FR Doc. 01-29641 Filed 11-28-01; 8:45 am]

BILLING CODE 3510-22-S